DEPARTMENT OF HEALTH AND HUMAN SERVICES

Centers for Disease Control and Prevention

Guest Researcher Program; Delegation of Authority

Notice is hereby given that I have delegated to the Chief Operating Officer, Centers for Disease Control and Prevention (CDC) and Director, Human Resources Office, CDC, without authority to redelegate, the authority vested in the Director, CDC, under Section 301(a)(2), Title III of the Public Health Service (PHS) Act (42 U.S.C. 241), as amended.

This delegation became effective upon date of signature. I hereby affirm and ratify any actions taken that involve the exercise of the authorities delegated herein prior to the effective date of this delegation.

Dated: November 6, 2014.
Thomas R. Frieden, M.D., M.P.H.,
Director, Centers for Disease Control and Prevention.

[FR Doc. 2014-27874 Filed 11-25-14; 8:45 am]

BILLING CODE 4160-18-M